ENVIRONMENTAL PROTECTION AGENCY

[EPA-HQ-OPP-2018-0014; FRL-9993-14]

Product Cancellation Order for Certain Pesticide Registrations and Amendments To Terminate Uses

AGENCY: Environmental Protection Agency (EPA).

ACTION: Notice.

SUMMARY: This notice announces EPA's order for the cancellations and amendments to terminate uses, voluntarily requested by the registrants and accepted by the Agency, of the products listed in Table 1, Table 1A and Table 2 of Unit II, pursuant to the Federal Insecticide, Fungicide, and Rodenticide Act (FIFRA). This cancellation order follows a March 5, 2019 Federal Register Notice of Receipt of Requests from the registrants listed in Table 3 of Unit II to voluntarily cancel and amend to terminate uses of these product registrations. In the March 5, 2019 notice, EPA indicated that it would issue an order implementing the cancellations and amendments to terminate uses, unless the Agency received substantive comments within the 30-day comment period that would merit its further review of these requests, or unless the registrants withdrew their requests. The Agency received two comments on the notice, to remove their registrations from the cancellation order notice. The registrants for 4959-16, 4959-36 and 33753-31, requested via letter to withdraw their registrations from this notice. Accordingly, EPA hereby issues in this notice a cancellation order granting the requested cancellations and amendments to terminate uses. Any distribution, sale, or use of the products subject to this cancellation order is permitted only in accordance with the terms of this order, including any existing stocks provisions.

DATES: The cancellations and amendments are effective May 13, 2019.

FOR FURTHER INFORMATION CONTACT: Christopher Green, Information Technology and Resources Management Division (7502P), Office of Pesticide Programs, Environmental Protection Agency, 1200 Pennsylvania Ave. NW, Washington, DC 20460-0001; telephone number: (703) 341-0367; email address: green.christopher@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2018-0014, is available at http://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the Agency taking?

This notice announces the cancellations and amendments to terminate uses, as requested by registrants, of products registered under FIFRA section 3 (7 U.S.C. 136a).

These registrations are listed in sequence by registration number in Tables 1, 1A and 2 of this unit.

Table 1—Product Cancellations
Registration No. | Company No. | Product name | Active ingredients
279-9532 | 279 | Appeal EC Herbicide | Fluthiacet-methyl.
279-9559 | 279 | F9878-1 Termite Bait | Lufenuron.
352-596 | 352 | DuPont Canopy SP Herbicide | Metribuzin & Chlorimuron.
352-843 | 352 | DuPont Leadoff (MP) Herbicide | Thifensulfuron & Rimsulfuron.
432-1415 | 432 | Allectus SC Insecticide | Bifenthrin & Imidacloprid.
432-1578 | 432 | Lineage Clearstand | Metsulfuron & Imazapyr.
875-185 | 875 | Pro-Kleen | Phosphoric acid & Dodecylbenzenesulfonic acid.
1258-1276 | 1258 | Endure | Boron sodium oxide (B4Na2O7), pentahydrate.
1769-287 | 1769 | Everbrite Germicidal Cleaner | Alkyl* dimethyl benzyl ammonium chloride *(60%C14, 30%C16, 5%C18, 5%C12) & Alkyl* dimethyl ethylbenzyl ammonium chloride *(68%C12, 32%C14).
3525-90 | 3525 | Coastal Cal Jet Algaecide Tablets | Dodecylbenzyl trimethyl ammonium chloride.
3525-92 | 3525 | Coastal Pinetex Disinfectant Coef. 5 | Alkyl* dimethyl benzyl ammonium chloride *(58%C14, 28%C16, 14%C12).
3862-186 | 3862 | 805 Sanitizer Cleaner for Soft Ice Cream Freezers | Sodium hypochlorite.
5185-299 | 5185 | Bio-Chlor LB-1000 | Sodium hypochlorite.
9428-6 | 9428 | Sun-Pine 8.7% Pine Oil Disinfectant Cleaner | Pine oil.
10324-16 | 10324 | Maquat MQ 2525-80% | Alkyl* dimethyl benzyl ammonium chloride *(60%C14, 30%C16, 5%C18, 5%C12) & Alkyl* dimethyl ethylbenzyl ammonium chloride *(50%C12, 30%C14, 17%C16, 3%C18).
10324-182 | 10324 | Maquat MQ2525M-50 DWP | Alkyl* dimethyl ethylbenzyl ammonium chloride *(68%C12, 32%C14) & Alkyl* dimethyl benzyl ammonium chloride *(60%C14, 30%C16, 5%C18, 5%C12).
33981-10 | 33981 | Sodium Hypochlorite Solution 16% EP | Sodium hypochlorite.
33981-11 | 33981 | Sodium Hypochlorite MP16% | Sodium hypochlorite.
33981-20001 | 33981 | Sodium Hypochlorite Solution | Sodium hypochlorite.
33981-20002 | 33981 | Sodium Hypochlorite Solution 10% | Sodium hypochlorite.
33981-20003 | 33981 | Sodium Hypochlorite Solution 9.2% | Sodium hypochlorite.
33981-20004 | 33981 | Sodium Hypochlorite Solution 5.25% | Sodium hypochlorite.
45309-3 | 45309 | Aqua Clear Liqui-Clear | Sodium hypochlorite.
45309-95 | 45309 | Aqua Clear Cal-Chlor | Calcium hypochlorite.
47371-106 | 47371 | Jaq Swimming Pool Algaecide | Alkyl* dimethyl benzyl ammonium chloride *(95%C14, 3%C12, 2%C16).
65331-7 | 65331 | Certifect for Dogs | Amitraz; S-Methoprene & Fipronil.
67262-6 | 67262 | Aqua Chem Balanced for Clean Pools Liquid Chlorinizor | Sodium hypochlorite.
70506-239 | 70506 | Bonfire Herbicide | Paraquat dichloride.
70529-3 | 70529 | Aqua Chlor Sodium Hypochlorite 12.5% | Sodium hypochlorite.
75341-14 | 75341 | MP400-EXT (Alternate), ORD-X240 (Active) | Borax (B4Na2O7.10H2O); Bifenthrin; Tebuconazole & Copper, bis(8-quinolinolato-N1,O8)-,
FL-180003 | 100 | A13617V Turf Herbicide | Pinoxaden.
OR-070018 | 66222 | Diazinon AG500 | Diazinon.
OR-170013 | 80286 | Splat LBAM HD-O | (E)-11-Tetradecen-1-ol acetate & (E,E)-9,11-Tetradecadien-1-ol acetate.
WI-130011 | 50534 | Bravo ZN | Chlorothalonil.
WI-130013 | 50534 | Bravo 720 | Chlorothalonil.

Table 1A—Product Cancellation
Registration No. | Company No. | Product name | Active ingredients
58185-34 | 58185 | Revoke Pre-Emergent Herbicide | Pendimethalin & Oxadiazon.

The registrant of the request in Table 1A, requests to cancel the registration at the Federal level by December 31, 2019.

Table 2—Product Registration Amendments To Terminate Uses
Registration No. | Company No. | Product name | Active ingredients | Uses to be terminated
1381-255 | 1381 | Saddle Up | 2,4-D & Dicamba | Forest management use pattern.
45385-99 | 45385 | Cenol 0.5% Multipurpose Insecticide | Permethrin | Food animals (livestock).

Table 3 of this unit includes the names and addresses of record for all registrants of the products in Tables 1, 1A and 2 of this unit, in sequence by EPA company number. This number corresponds to the first part of the EPA registration numbers of the products listed above.

Table 3—Registrants of Cancelled and Amended Products
EPA company No. | Company name and address
100 | Syngenta Crop Protection, LLC, 410 Swing Road, P.O. Box 18300, Greensboro, NC 27419-8300.
279 | FMC Corporation, 2929 Walnut Street, Philadelphia, PA 19104.
352 | E.I. Du Pont De Nemours & Company, Attn: Manager, US Registration, DuPont Crop Protection, Chestnut Run Plaza (CRP 720/2E5), 974 Centre Rd., Wilmington, DE 19805.
432 | Bayer Environmental Science, A Division of Bayer CropScience, LP, 5000 CentreGreen Way, Suite 400, Cary, NC 27513.
875 | Diversey, Inc., P.O. Box 19747, Charlotte, NC 28219-0747.
1258 | Arch Chemicals, Inc., 1200 Bluegrass Lakes Parkway, Alpharetta, GA 30004.
1381 | Winfield Solutions, LLC, P.O. Box 64589, St. Paul, MN 55164-0589.
1769 | NCH Corp, 2727 Chemsearch Blvd., Irving, TX 75062.
3525 | Qualco, Inc., 225 Passaic St., Passaic, NJ 07055.
3862 | ABC Compounding Co., Inc., P.O. Box 80729, Conyers, GA 30013.
5185 | Bio-Lab, Inc., P.O. Box 300002, Lawrenceville, GA 30049-1002.
9428 | Sun-Pine Corporation, P.O. Box 287, Brandon, MS 39043.
10324 | Mason Chemical Company, 2744 E. Kemper Rd., Cincinnati, OH 45241.
33981 | K.A. Steel Chemicals, Inc., Agent Name: Delta Analytical Corporation, 12510 Prosperity Drive, Suite 160, Silver Spring, MD 20904.
45309 | Aqua Clear Industries, LLC, P.O. Box 2456, Suwanee, GA 30024-0980.
45385 | CTX-Cenol, Inc., 1393 East Highland Rd., Twinsburg, OH 44087.
47371 | H&S Chemicals Division of Lonza, Inc., 412 Mount Kemble Avenue, Suite 200S, Morristown, NJ 07960.
50534 | GB Biosciences, LLC, 410 Swing Road, P.O. Box 18300, Greensboro, NC 27419-8300.
58185 | Everris NA, Inc., P.O. Box 3310, Dublin, OH 43016.
65331 | Merial, Inc., 3239 Satellite Blvd., Bldg. 600, Office 6558-B, Duluth, GA 30096.
66222 | Makhteshim Agan of North America, Inc., D/B/A Adama, 3120 Highwoods Blvd., Suite 100, Raleigh, NC 27604.
67262 | Recreational Water Products, Inc., D/B/A Recreational Water Products, P.O. Box 1449, Buford, GA 30515-1449.
70506 | UPL NA, Inc., 630 Freedom Business Center, Suite 402, King of Prussia, PA 19406.
70529 | Chemical Formulators, Inc., Attn: Jim Palmer, 3901 NW 115 Avenue, Miami, FL 33178.
75341 | Osmose Utilities Services, Inc., 635 Hwy., 74 S., Peachtree City, GA 30269.
80286 | ISCA Technologies, Inc., 1230 W. Spring Street, Riverside, CA 92507.

III. Summary of Public Comments Received and Agency Response to Comments

The Agency received two comments on the notice, to remove their registrations from the cancellation order notice. West Agro, Inc., registrant of 4959-16 and 4959-36 and BASF Corporation, registrant of 33753-31, requested via letter to remove their registrations from this cancellation order because the requests were published in error and request that the registrations not be cancelled. For this reason, the Agency will not cancel these three registrations and the registrations have been removed from this notice.

IV. Cancellation Order

Pursuant to FIFRA section 6(f) (7 U.S.C. 136d(f)(1)), EPA hereby approves the requested cancellations and amendments to terminate uses of the registrations identified in Tables 1, 1A and 2 of Unit II. Accordingly, the Agency hereby orders that the product registrations identified in Tables 1, 1A and 2 of Unit II are canceled and amended to terminate the affected uses. The effective date of the cancellations that are subject of this notice is May 13, 2019. Any distribution, sale, or use of existing stocks of the products identified in Tables 1, 1A and 2 of Unit II in a manner inconsistent with any of the provisions for disposition of existing stocks set forth in Unit VI, will be a violation of FIFRA.

V. What is the Agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of March 05, 2019 (84 FR 7896) (FRL-9988-66). The comment period closed on April 04, 2019.

VI. Provisions for Disposition of Existing Stocks

Existing stocks are those stocks of registered pesticide products which are currently in the United States and which were packaged, labeled, and released for shipment prior to the effective date of the action. The existing stocks provision for the products subject to this order is as follows.

A. For Product: 432-1415

The registrant has requested to the Agency via letter to sell existing stocks for an 18-month period from the date of their letter dated, September 20, 2018, until March 20, 2020, for product 432-1415.

B. For Product: 432-1578

The registrant has requested to the Agency via letter dated, November 14, 2017, to sell existing stocks for an 18-month period, until June 1, 2019, for product 432-1578.

C. For Products: 10324-16 and 10324-182

The registrant has requested to the Agency via letter, to sell existing stocks for an 18-month period for products 10324-16 and 10324-182.

For all other voluntary cancellations, the registrants may continue to sell and distribute existing stocks of products listed in Table 1 and Table 1A until May 13, 2020, which is 1 year after publication of this cancellation order in the Federal Register. Thereafter, the registrants are prohibited from selling or distributing products listed in Table 1 and Table 1A of Unit II, except for export in accordance with FIFRA section 17 (7 U.S.C. 136o) or for proper disposal.

Now that EPA has approved product labels reflecting the requested amendments to terminate uses, registrants are permitted to sell or distribute products listed in Table 2 of Unit II, under the previously approved labeling until November 12, 2020, a period of 18 months after publication of the cancellation order in this Federal Register, unless other restrictions have been imposed. Thereafter, registrants will be prohibited from selling or distributing the products whose labels include the terminated uses identified in Table 2 of Unit II, except for export consistent with FIFRA section 17 or for proper disposal.

Persons other than the registrant may sell, distribute, or use existing stocks of canceled products and products whose labels include the terminated uses until supplies are exhausted, provided that such sale, distribution, or use is consistent with the terms of the previously approved labeling on, or that accompanied, the canceled products and terminated uses.

Authority: 7 U.S.C. 136 et seq.

Dated: May 6, 2019.
Delores Barber,
Director, Information Technology and Resources Management Division, Office of Pesticide Programs.

[FR Doc. 2019-09778 Filed 5-10-19; 8:45 am]

BILLING CODE 6560-50-P